ENVIRONMENTAL PROTECTION AGENCY

[FRL-7944-5]

Proposed CERCLA Administrative Cost Recovery Settlement; Shawn Callister, Plain City Drum Site, Weber County, Utah

AGENCY: Environmental Protection Agency (EPA).

ACTION: Administrative order on consent; request for public comment.

SUMMARY: In accordance with section 122(h)(1) of the Comprehensive Environmental Response, Compensation, and Liability Act, as amended (CERCLA), 42 U.S.C. 9622(i), notice is hereby given of a proposed Administrative Order On Consent (AOC) for recovery of certain past response costs concerning the Plain City Drum Site in Weber County, Utah, with Mr. Shawn Callister, Respondent. The settlement requires Mr. Callister to pay $10,000.00 to the Hazardous Substance Superfund for partial payment of past response costs incurred by EPA. The AOC includes a covenant not to sue or to take judicial or administrative action against the Respondent pursuant to sections 106 and 107(a) of CERCLA, 42 U.S.C. 9606 and 9607(a). This covenant not to sue is conditioned upon the veracity and completeness of the Financial Information provided to EPA by Mr. Callister. The covenant not to sue extends only to Mr. Callister and does not extend to any other person.

In response to the release or threatened release of hazardous substances at or from the Site, EPA undertook response actions at the Site pursuant to section 104 of CERCLA, 42 U.S.C. 9604, including emergency removal actions to overpack and properly dispose of twenty eight (28) 55-gallon drums containing flammable liquids. At the time of removal the drums were in poor condition. Some were bulging and some had rusting holes. On-site air monitoring showed the drums were releasing hazardous constituents in the air. The drums were located adjacent to a residence with horse corrals and were approximately 3.5 miles from the Harold's Crane Waterfowl Management Area.

DATES: Comments must be submitted on or before August 26, 2005.

ADDRESSES: The proposed settlement is available for public inspection at the Superfund Records Center, EPA Region 8, 999 18th Street, Suite 300, Denver, CO 80202-2466, (303) 312-6473.

FOR FURTHER INFORMATION CONTACT: Katherine Letson Bradford, (8ENF-L), EPA Senior Enforcement Attorney, U.S. Environmental Protection Agency, Region 8, 999 18th Street, Denver, CO 80202-2466, (303) 312-6641.

SUPPLEMENTARY INFORMATION: For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the Superfund Records Center, EPA Region 8, 999 18th Street, Suite 300, Denver, CO 80202-2466, (303) 312-6473.

Dated: July 11, 2005.
Eddie A. Sierra,
Acting Assistant Regional Administrator, Office of Enforcement, Compliance and Environmental Justice.

[FR Doc. 05-14899 Filed 7-26-05; 8:45 am]

BILLING CODE 6560-50-P